DEPARTMENT OF COMMERCE

National Oceanic and Atmospheric Administration

Evaluation of National Estuarine Research Reserve; Public Meeting; Request for Comments

AGENCY: Office for Coastal Management (OCM), National Ocean Service (NOS), National Oceanic and Atmospheric Administration (NOAA), Department of Commerce (DOC).

ACTION: Notice of public meeting and opportunity to comment.

SUMMARY: The National Oceanic and Atmospheric Administration (NOAA), Office for Coastal Management will hold a public meeting to solicit comments on the performance evaluation of the Apalachicola National Estuarine Research Reserve.

DATES: NOAA will consider all written comments received by Friday, August 13, 2021. A virtual public meeting will be held on Wednesday, August 4, 2021 at 12 p.m. EDT. To participate in the virtual public meeting, registration is required by Tuesday, August 3, 2021, at 5 p.m. EDT.

ADDRESSES: You may submit written comments on the national estuarine research reserve NOAA intends to evaluate by emailing Susie Holst Rice, Evaluator, NOAA Office for Coastal Management at Susie.Holst@noaa.gov. See SUPPLEMENTARY INFORMATION for other information about submitting comments.

Registration: To register for the virtual public meeting, visit https://docs.google.com/forms/d/e/1FAIpQLSeR67COjWtau7B3zk_nz6WQ-FOgYmlnhe5-INWDJGpnPaR6lA/viewform?usp=sf_link. If you have difficulty registering, contact Susie Holst Rice by email at Susie.Holst@noaa.gov.

FOR FURTHER INFORMATION CONTACT: Susie Holst Rice, Evaluator, NOAA Office for Coastal Management by email at Susie.Holst@noaa.gov or call (603) 862-1205. Copies of the previous evaluation findings, reserve management plan, and reserve site profile may be viewed and downloaded on the internet at http://coast.noaa.gov/czm/evaluations. A copy of the evaluation notification letter and most recent progress report may be obtained upon request by contacting Susie Holst Rice.

SUPPLEMENTARY INFORMATION: Section 312 of the Coastal Zone Management Act (CZMA) requires NOAA to conduct periodic evaluations of federally approved national estuarine research reserves. The process includes one or more public meetings, consideration of written public comments, and consultations with interested Federal, state, and local agencies and members of the public. During the evaluation, NOAA will consider the extent to which the state of Florida has met the national objectives, adhered to the Reserve's management plan approved by the Secretary of Commerce, and adhered to the terms of financial assistance under the CZMA. When the evaluation is completed, NOAA's Office for Coastal Management will place a notice in the Federal Register announcing the availability of the Final Evaluation Findings.

Submitting Comments

Timely comments received by the Office for Coastal Management are considered part of the public record and may be publicly accessible. Any personal information (e.g., name, address) submitted voluntarily by the sender may also be publicly accessible. NOAA will accept anonymous comments. You may also provide public comments during the virtual public meeting. You may participate online or by phone. If you would like to provide comment during the public meeting, please select “yes” during the online registration. The line-up of speakers will be based on the date and time of registration. Once you register, you will receive a confirmation of your registration. One hour prior to the start of the meeting on August 4, 2021, you will be emailed a link to the public meeting and information about participating.

Keelin Kuipers,
Deputy Director, Office for Coastal Management, National Ocean Service, National Oceanic and Atmospheric Administration.

[FR Doc. 2021-13583 Filed 6-24-21; 8:45 am]

BILLING CODE 3510-JE-P